FEDERAL COMMUNICATIONS COMMISSION

47 CFR Part 54

[WC Docket Nos. 17-287, 11-42, 09-197; FCC 19-111; FRS 16877]

Bridging the Digital Divide for Low-Income Consumers, Lifeline and Link Up Reform and Modernization, Telecommunications Carriers Eligible for Universal Service Support

AGENCY: Federal Communications Commission.

ACTION: Final rule; announcement of effective date.

SUMMARY: In this document, the Federal Communications Commission (Commission) announces that the Office of Management and Budget (OMB) has approved, for a period of three years, a revision to an information collection associated with the rules for the Lifeline and Link Up Reform and Modernization contained in the Commission's Order, FCC 19-111. This document is consistent with the Fifth Report and Order, Memorandum Opinion and Order and Order on Reconsideration, and Further Notice of Proposed Rulemaking, which stated that the Commission would publish a document in the Federal Register announcing the effective date of the new information collection requirements.

DATES: The amendments to amendatory instructions 6.b. (§ 54.404(b)(12)) and 11 (§ 54.410(f)) published at 84 FR 71308, December 27, 2019, are effective October 13, 2020.

FOR FURTHER INFORMATION CONTACT: Nicholas Page, Telecommunications Access Policy Division, Wireline Competition Bureau, (202) 418-7400 or TTY: (202) 418-0484. For additional information concerning the Paperwork Reduction Act information collection requirements contact Nicole Ongele at (202) 418-2991 or via email: Nicole.Ongele@fcc.gov.

SUPPLEMENTARY INFORMATION: The Commission submitted new information collection requirements for review and approval by OMB, as required by the Paperwork Reduction Act (PRA) of 1995, on April 29, 2020, which were approved by the OMB on June 15, 2020. The information collection requirements are contained in the Commission's Fifth Report and Order, Memorandum Opinion and Order and Order on Reconsideration, and Further Notice of Proposed Rulemaking (2019 Lifeline Order), FCC 19-111 published at 84 FR 71308, December 27, 2019. The OMB Control Number is 3060-0819. The Commission publishes this document as an announcement of the effective date of the rules published December 27, 2019 that required PRA approval. If you have any comments on the burden estimates listed herein, or how the Commission can improve the collections and reduce any burdens caused thereby, the Commission will accept your comments via email at PRA@fcc.gov. Please include the OMB Control Number, 3060-0819, in your correspondence. Due to the COVID-19 pandemic, the Commission's headquarters will be closed to the general public and will only be accepting electronic submissions until further notice.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received OMB approval on June 15, 2020, for the information collection requirements contained in 47 CFR 54.404(b)(12) and 47 CFR 54.410(f). Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0819.

The foregoing notice is required by the Paperwork Reduction Act of 1995, Public Law 104-13, October 1, 1995, and 44 U.S.C. 3507.

The total annual reporting burdens and costs for the respondents are as follows:

OMB Control Number: 3060-0819.

OMB Approval Date: June 15, 2020.

OMB Expiration Date: June 30, 2023.

Title: Bridging the Digital Divide for Low-Income Consumers, Lifeline and Link Up Reform and Modernization, Telecommunications Carriers Eligible for Universal Service Support.

Form No.: FCC Form 481, 497, 555, 5629, 5630, and 5631.

Type of Review: Revision of a currently approved collection.

Respondents: Individuals or households and business or other for-profit enterprises.

Number of Respondents and Responses: 18,335,775 respondents; 20,102,235 responses.

Estimated Time per Response: 0.0167-125 hours.

Frequency of Response: Annual, biennial, monthly, daily and on occasion reporting requirements, recordkeeping requirement and third-party disclosure requirement.

Obligation to Respond: Required to obtain or retain benefits. Statutory authority is contained in Sections 1, 4(i), 5, 201, 205, 214, 219, 220, 254, 303(r), and 403 of the Communications Act of 1934, as amended, and section 706 of the Communications Act of 1996, as amended; 47 U.S.C. 151, 154(i), 155, 201, 205, 214, 219, 220, 254, 303(r), 403, and 1302.

Total Annual Burden: 8,531,854 hours.

Total Annual Cost: $937,500.

Privacy Impact Assessment: Yes. The Commission completed a Privacy Impact Assessment (PIA) for some of the information collection requirements contained in this collection. The PIA was published in the Federal Register at 82 FR 38686 on August 15, 2017. The PIA may be reviewed at: http://www.fcc.gov/omd/privacyact/Privacy_Impact_Assessment.html.

Nature and Extent of Confidentiality: Some of the requirements contained in this information collection affect individuals or households, and thus, there are impacts under the Privacy Act. The FCC's system of records notice (SORN) associated with this collection is FCC/WCB-1, “Lifeline Program.”

The Commission will use the information contained in FCC/WCB-1 to cover the personally identifiable information (PII) that is required as part of the Lifeline Program (Lifeline).

As required by the Privacy Act of 1974, as amended, 5 U.S.C. 552a, the Commission published FCC/WCB-1 Lifeline Program in the Federal Register on August 15, 2017 (82 FR 38686).

Also, respondents may request materials or information submitted to the Commission or to the Universal Service Administrative Company (USAC or Administrator) be withheld from public inspection under 47 CFR 0.459 of the FCC's rules. We note that USAC must preserve the confidentiality of all data obtained from respondents; must not use the data except for purposes of administering the universal service programs; and must not disclose data in company-specific form unless directed to do so by the Commission.

Needs and Uses: This collection is used to restore the traditional state and federal roles in designating eligible telecommunications carriers (ETC) and eliminate the Lifeline Broadband Provider (LBP) category as a result of the 2019 Lifeline Order. This revision codifies a requirement that enrollment representatives must register with USAC before interacting with USAC's systems. This revision also implements several process and procedural changes to further bolster program integrity efforts, requiring minor modifications to the previously approved requirements. These changes have a moderate impact on the overall burden, increasing the burden hours for some requirements and decreasing the burden hours for other requirements.

Federal Communications Commission.
Cecilia Sigmund,
Federal Register Liaison Officer, Office of the Secretary.

[FR Doc. 2020-13611 Filed 7-10-20; 8:45 am]

BILLING CODE 6712-01-P